Title 3—

The President

Executive Order 14179 of January 23, 2025

Removing Barriers to American Leadership in Artificial Intelligence

By the authority vested in me as President by the Constitution and the laws of the United States of America, it is hereby ordered:

Section 1. Purpose. The United States has long been at the forefront of artificial intelligence (AI) innovation, driven by the strength of our free markets, world-class research institutions, and entrepreneurial spirit. To maintain this leadership, we must develop AI systems that are free from ideological bias or engineered social agendas. With the right Government policies, we can solidify our position as the global leader in AI and secure a brighter future for all Americans. This order revokes certain existing AI policies and directives that act as barriers to American AI innovation, clearing a path for the United States to act decisively to retain global leadership in artificial intelligence.

Sec. 2. Policy. It is the policy of the United States to sustain and enhance America's global AI dominance in order to promote human flourishing, economic competitiveness, and national security.

Sec. 3. Definition. For the purposes of this order, “artificial intelligence” or “AI” has the meaning set forth in 15 U.S.C. 9401(3).

Sec. 4. Developing an Artificial Intelligence Action Plan. (a) Within 180 days of this order, the Assistant to the President for Science and Technology (APST), the Special Advisor for AI and Crypto, and the Assistant to the President for National Security Affairs (APNSA), in coordination with the Assistant to the President for Economic Policy, the Assistant to the President for Domestic Policy, the Director of the Office of Management and Budget (OMB Director), and the heads of such executive departments and agencies (agencies) as the APST and APNSA deem relevant, shall develop and submit to the President an action plan to achieve the policy set forth in section 2 of this order.

Sec. 5. Implementation of Order Revocation. (a) The APST, the Special Advisor for AI and Crypto, and the APNSA shall immediately review, in coordination with the heads of all agencies as they deem relevant, all policies, directives, regulations, orders, and other actions taken pursuant to the revoked Executive Order 14110 of October 30, 2023 (Safe, Secure, and Trustworthy Development and Use of Artificial Intelligence). The APST, the Special Advisor for AI and Crypto, and the APNSA shall, in coordination with the heads of relevant agencies, identify any actions taken pursuant to Executive Order 14110 that are or may be inconsistent with, or present obstacles to, the policy set forth in section 2 of this order. For any such agency actions identified, the heads of agencies shall, as appropriate and consistent with applicable law, suspend, revise, or rescind such actions, or propose suspending, revising, or rescinding such actions. If in any case such suspension, revision, or rescission cannot be finalized immediately, the APST and the heads of agencies shall promptly take steps to provide all available exemptions authorized by any such orders, rules, regulations, guidelines, or policies, as appropriate and consistent with applicable law, until such action can be finalized.

(b) Within 60 days of this order, the OMB Director, in coordination with the APST, shall revise OMB Memoranda M-24-10 and M-24-18 as necessary to make them consistent with the policy set forth in section 2 of this order.

Sec. 6. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

January 23, 2025.

[FR Doc. 2025-02172

Filed 1-30-25; 11:15 am]

Billing code 3395-F4-P